DEPARTMENT OF COMMERCE

Foreign-Trade Zones Board

[Order No. 1838]

Reorganization and Expansion of Foreign-Trade Zone 202 Under Alternative Site Framework Los Angeles, CA

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the Board of Harbor Commissioners of the City of Los Angeles, grantee of Foreign-Trade Zone 202, submitted an application to the Board (FTZ Docket 9-2012, filed 02/09/2012) for authority to reorganize and expand under the ASF with a service area of Orange County and portions of Los Angeles and San Bernardino Counties, California, within and adjacent to the Los Angeles-Long Beach U.S. Customs and Border Protection port of entry, FTZ 202's Site 9 would be renumbered to create new Sites 30 and 31, Sites 1, 4, 7, 10-11, 14, 20 and 22 would be categorized as magnet sites, Sites 2, 5, 9, 12, 15, 19, 25, 27-28 and 30-31 would be categorized as usage driven sites, Sites 16, 24 and 26 would be removed from the zone project, and the grantee proposes one new usage-driven site (Site 29);

Whereas, notice inviting public comment was given in the Federal Register (77 FR 8804-8805, 02/15/2012) and the application has been processed pursuant to the FTZ Act and the Board's regulations; and,

Whereas, the Board adopts the findings and recommendation of the examiner's report, and finds that the requirements of the FTZ Act and the Board's regulations are satisfied, and that the proposal is in the public interest;

Now, therefore, the Board hereby orders:

The application to reorganize FTZ 202 under the alternative site framework is approved, subject to the FTZ Act and the Board's regulations, including Section 400.13, to the Board's standard 2,000-acre activation limit for the overall general-purpose zone project, to a five-year ASF sunset provision for magnet sites that would terminate authority for Sites 4, 7, 10-11, 14, 20 and 22 if not activated by July 31, 2017, and to a three-year ASF sunset provision for usage-driven sites that would terminate authority for Sites 2, 5, 9, 12, 15, 19, 25, 27-31 if no foreign-status merchandise is admitted for a bona fide customs purpose by July 31, 2015.

Signed at Washington, DC, this 5th day of July 2012.
Paul Piquado,
Assistant Secretary of Commerce for Import Administration, Alternate Chairman, Foreign-Trade Zones Board.
Andrew McGilvray,
Executive Secretary.

[FR Doc. 2012-17294 Filed 7-13-12; 8:45 am]

BILLING CODE P